DEPARTMENT OF THE TREASURY

Internal Revenue Service

26 CFR Part 1

[TD 9538]

RIN 1545-BK14

Modifications of Certain Derivative Contracts; Correction

AGENCY: Internal Revenue Service (IRS), Treasury.

ACTION: Correction to final and temporary regulations.

SUMMARY: This document describes corrections to final and temporary regulations (TD 9538) that address when a transfer or assignment of certain derivative contracts does not result in an exchange to the nonassigning counterparty for purposes of § 1.1001-1(a). These regulations were published in the Federal Register on Friday, July 22, 2011.

DATES: This correction is effective on August 19, 2011, and is applicable on July 22, 2011.

FOR FURTHER INFORMATION CONTACT: Andrea M. Hoffenson, (202) 622-3920 (not a toll-free number).

SUPPLEMENTARY INFORMATION:

Background

The final and temporary regulations that are the subject of this correction are under section 1001 of the Internal Revenue Code.

Need for Correction

As published July 22, 2011 (76 FR 43892), final and temporary regulations (TD 9538) contain errors that may prove to be misleading and are in need of clarification.

Correction of Publication

Accordingly, the publication of the final and temporary regulations (TD 9538) which were the subject of FR Doc. 2011-18529 is corrected as follows:

1. On page 43892, column 3, in the preamble, under the paragraph heading “Explanation of Provisions”, first paragraph of the column, lines 5, 6, and 7, the language “in securities or a clearinghouse transfers or assigns a derivative contract to another dealer in securities or” is corrected to read “or a clearinghouse transfers or assigns a derivative contract to another dealer or”.

2. On page 43892, column 3, in the preamble, under the paragraph heading “Explanation of Provisions”, first paragraph of the column, lines 12 and 13, the language “those described in section 475(c)(2)(D), 475(c)(2)(E), or 475(c)(2)(F). In addition,” is corrected to read “those described in sections 475(c)(2)(D), 475(c)(2)(E), 475(c)(2)(F), 475(e)(2)(B), 475(e)(2)(C), or 475(e)(2)(D), or § 1.446-3(c)(1). In addition,”.

3. On page 43892, column 3, in the preamble, under the paragraph heading “Special Analyses”, the last line of the paragraph, the language “on their impact on small business.” is corrected to read “on their impact on small businesses.”.

LaNita Van Dyke,
Chief, Publications and Regulations Branch, Legal Processing Division, Associate Chief Counsel (Procedure and Administration).

[FR Doc. 2011-21179 Filed 8-18-11; 8:45 am]

BILLING CODE 4830-01-P